DEPARTMENT OF ENERGY

Federal Energy Regulatory Commission

Notice of Staff Attendance at North American Electric Reliability Corporation Industry Webinar

The Federal Energy Regulatory Commission hereby gives notice that members of the Commission and/or Commission staff may attend the following meetings:

North American Electric Reliability Corporation: Industry Webinar: Project 2020-02 Modifications to PRC-024

June 28, 2024 | 11:00 a.m.-12:00 p.m. Eastern

Further information regarding this meeting and how to join remotely may be found at: https://www.nerc.com/pa/Stand/Lists/stand/DispForm.aspx?ID=2380.

The discussions at the meetings, which are open to the public, may address matters at issue in the following Commission proceedings:

Docket No. RR24-2-000—North American Electric Reliability Corporation

For further information, please contact Leigh Anne Faugust at (202) 502-6396 or leigh.faugust@ferc.gov.

Dated: June 24, 2024.
Debbie-Anne A. Reese,
Acting Secretary.

[FR Doc. 2024-14393 Filed 6-28-24; 8:45 am]

BILLING CODE 6717-01-P